FEDERAL COMMUNICATIONS COMMISSION

47 CFR Parts 0 and 8

[WC Docket No. 07-52, GN Docket No. 09-191; Report No. 2936]

Preserving the Open Internet

AGENCY: Federal Communications Commission.

ACTION: Final rule; petition for reconsideration.

SUMMARY: In this document, a Petition for Reconsideration (Petition) has been filed in the Commission's Rulemaking proceeding concerning a rule establishing protections for broadband service to preserve and reinforce Internet freedom and openness.

DATES: Oppositions to the Petition must be filed by December 16, 2011. Replies to an opposition must be filed December 27, 2011.

ADDRESSES: Federal Communications Commission, 445 12th Street SW., Washington, DC 20554.

FOR FUTHER INFORMATION CONTACT: Matthew Warner, Wireline Competition Bureau, (202) 418-2419.

SUPPLEMENTARY INFORMATION: This is a summary of the Commission's document, Report No. 2936, released November 14, 2011. The full text of this document is available for viewing and copying in Room CY-B402, 445 12th Street SW., Washington, DC or may be purchased from the Commission's copy contractor, Best Copy and Printing, Inc. (BCPI) (1-(800) 378-3160). The Commission will not send a copy of this Notice pursuant to the Congressional Review Act, 5 U.S.C. 801(a)(1)(A), because this Notice does not have an impact on any rules of particular applicability.

Subject: In the Matter of Preserving the Open Internet, Broadband Industry Practices, published at 76 FR 59192, September 23, 2011, in WC Docket No. 07-52, GN Docket No. 09-191, and published pursuant to 47 CFR 1.429(e). See 1.4(b)(1) of the Commission's rules (47 CFR 1.4(b)(1)).

Number of Petitions Filed: 1.

Federal Communications Commission.
Marlene H. Dortch,
Secretary, Office of the Secretary, Office of Managing Director.

[FR Doc. 2011-30643 Filed 11-30-11; 8:45 am]

BILLING CODE 6712-01-P